DEPARTMENT OF HOMELAND SECURITY

Coast Guard

33 CFR Part 165

[Docket No. USCG-2013-0020]

Safety Zone; Chicago Match Cup Race; Lake Michigan; Chicago, IL

AGENCY: Coast Guard, DHS.

ACTION: Notice of enforcement of regulation.

SUMMARY: The Coast Guard will enforce the safety zone on Lake Michigan near Chicago, Illinois for the 2013 AWMRT Chicago Match Cup Race. This zone will be enforced from 8 a.m. until 8 p.m. on each day of August 6, 7, 8, 9, 10, and 11, 2013. This action is necessary and intended to ensure safety of life on the navigable waters during the 2013 AWMRT Chicago Match Cup. During the aforementioned periods, the Coast Guard will enforce restrictions upon, and control movement of, vessels in the safety zone. No person or vessel may enter the safety zone while it is being enforced without permission of the Captain of the Port, Lake Michigan.

DATES: This regulation will be enforced at the dates and times listed in the SUPPLEMENTARY INFORMATION section of this notice.

FOR FURTHER INFORMATION CONTACT: If you have questions on this notice, call or email MST1 Joseph McCollum, Prevention Department, Coast Guard Sector Lake Michigan, Milwaukee, WI at (414) 747-7148, email joseph.p.mccollum@uscg.mil.

SUPPLEMENTARY INFORMATION: The Coast Guard will enforce the safety zone listed in 33 CFR 165.929(a)(76) as well as the general regulations in 33 CFR 165.929, Safety Zones; Annual events requiring safety zones in the Captain of the Port Lake Michigan zone, for the 2013 AWMRT Chicago Match Cup. This zone will be enforced from 8 a.m. until 8 p.m. on each day of August 6, 7, 8, 9, 10, and 11, 2013.

All vessels must obtain permission from the Captain of the Port, Lake Michigan, or the on-scene representative to enter, move within, or exit a safety zone. Vessels and persons granted permission to enter the safety zone shall obey all lawful orders or directions of the Captain of the Port, Lake Michigan, or a designated representative. Vessels that wish to transit through the safety zones may request permission from the Captain of the Port Lake Michigan. Requests must be made in advance and approved by the Captain of the Port before transits will be authorized. Approvals will be granted on a case by case basis. While within a safety zone, all vessels shall operate at the minimum speed necessary to maintain a safe course.

This notice is issued under authority of 33 CFR 165.929(a)(76), and 5 U.S.C. 552(a). In addition to this notice in the Federal Register, the Coast Guard will provide the maritime community with advance notification of this event via Broadcast Notice to Mariners that the regulation is in effect. If the Captain of the Port determines that the enforcement of these safety zones need not occur as stated in this notice, he or she might suspend such enforcement and notify the public of the suspension via a Broadcast Notice to Mariners. The Captain of the Port, Lake Michigan, or his or her on-scene representatives may be contacted on channel 16, VHF-FM.

Dated: June 3, 2013.
M.W. Sibley,
Captain, U.S. Coast Guard, Captain of the Port, Lake Michigan.

[FR Doc. 2013-14956 Filed 6-21-13; 8:45 am]

BILLING CODE 9110-04-P